DEPARTMENT OF HOUSING AND URBAN DEVELOPMENT

[Docket No. FR-5144-N-01]

Notice of Competition Advocate Designation Under the HUD Acquisition Regulation

AGENCY: Office of the Chief Procurement Officer, HUD.

ACTION: Notice of competition advocate designation.

SUMMARY: In accordance with HUD's acquisition regulations (HUDAR), this notice announces HUD's designation of a competition advocate. Under the Federal Acquisition Regulations (FAR), each agency designates a competition advocate whose responsibilities include, but are not limited to: Promoting the acquisition of commercial items, promoting full and open competition, challenging requirements that are not stated in terms of functions to be performed, performance required or essential physical characteristics, and challenging barriers to the acquisition of commercial items and full and open competition such as unnecessarily restrictive statements of work, unnecessarily detailed specifications, and unnecessarily burdensome contract clauses.

DATES: Effective Date: January 31, 2007.

FOR FURTHER INFORMATION CONTACT: Gloria Sochon, Assistant Chief Procurement Officer for Policy and Systems, Office of the Chief Procurement Officer, 451 Seventh Street, SW., Room 5276, Washington, DC 20410-3000, telephone (202) 708-0294. Persons with speech or hearing impairments may access this number through TTY by calling the toll-free Federal Information Relay Service at (800) 877-8339.

SUPPLEMENTARY INFORMATION: The uniform regulation for the procurement of supplies and services by federal departments and agencies, the FAR, was promulgated on September 19, 1983 (48 FR 42102). The FAR is codified in title 48, chapter 1, of the Code of Federal Regulations. HUD promulgated its regulation to implement the FAR on March 1, 1984 (49 FR 7696). The HUDAR (title 48, chapter 24 of the Code of Federal Regulations) is prescribed by the Chief Procurement Officer under section 7(d) of the Department of HUD Act (42 U.S.C. 3535(d)); section 205(c) of the Federal Property and Administrative Services Act of 1949 (40 U.S.C. 486(c)); the Secretary's delegation of authority effective October 6, 1998 (63 FR 54723) and the general authorization in FAR 1.301.

Under 48 CFR 2401.601-70, the Chief Procurement Officer is HUD's Senior Procurement Executive. In accordance with 48 CFR 2406.501, HUD's Senior Procurement Executive shall designate the Department's competition advocate by notice in the Federal Register. Therefore, the Chief Procurement Officer designates a Special Assistant to the Chief Procurement Officer as HUD's competition advocate.

This designation supersedes the previous designation of competition advocate published in the Federal Register on August 23, 1999 (64 FR 46109).

Dated: May 11, 2007.
Joseph A. Neurauter,
Chief Procurement Officer.

[FR Doc. E7-9434 Filed 5-15-07; 8:45 am]

BILLING CODE 4210-67-P